DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Model Th1 Clone Producing IFN-gamma and IL-2

Description of Technology

Available for licensing is the A.E7 T cell clone, a model Th1 clone described in Matis et al., J Immunol. 1983 Apr 130(4):1527-1535 [PubMed abs] and J Immunol. 1983 Sept 131(3):1049-1055 [PubMed abs]. This clone has been further utilized as a model for studying T cell clonal anergy.

Potential Applications of Technology

2. Model Th1 clone capable of making IFN-gamma and IL-2

4. Model T cell clone for studying T cell clonal anergy

Inventors

Ronald H. Schwartz et al. (NIAID).

Louis A. Matis (NIAID).

Dan L. Longo (NCI).

Toby T. Hecht (NCI).

Patent Status

HHS Reference No. E-214-2006/0—Research Tool.

Licensing Status

Available for non-exclusive licensing.

Licensing Contact

Susan Ano, Ph.D.; Phone: (301) 435-5515; Email: anos@mail.nih.gov.

Dated: July 31, 2006.
Steven M. Ferguson,
Director, Division of Technology Development and Transfer, Office of Technology Transfer, National Institutes of Health.

[FR Doc. 06-6872 Filed 8-11-06; 8:45 am]

BILLING CODE 4140-01-M